DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 7, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on June 2, 2021.
Donald P. Burger,
Chief, General Approvals and Permits Branch.

Special Permits Data
Application No. | Applicant | Regulation(s) affected | Nature of the special permits thereof
21227-N | Apollo Fusion, Inc | 173.302 | To authorize the transportation in commerce of Xenon in non-DOT specification cylinders. (mode 1).
21231-N | Patrick J. Kelly Drums, Inc | 173.28(b) | To authorize the recondition of UN specification metal drums that have minimum steel thicknesses below those now authorized in 49 CFR § 173.28(b)(4). (modes 1, 2, 3, 4, 5).
21232-N | Scandinavian Airlines System Denmark-Norway-Sweden | 175.75(c) | To authorize the transportation in commerce of aviation fuel contained in a fuel tank by passenger-carrying aircraft in quantities that exceed the limitation for materials loaded in an inaccessible manner. (mode 5).
21233-N | Airopack B.V | 178.33b-6(a) | To authorize the manufacture, mark, sale, and use of DOT 2S inner containers manufactured from recycled materials. (modes 1, 2, 3, 4, 5).
21234-N | Air Liquide Advanced Materials Inc | 173.301 | To authorize the transportation in commerce of Dichlorosilane in non-DOT specification cylinders. (modes 1, 3).
21235-N | United States Dept. of Energy | 173.413, 173.416 | To authorize the transportation in commerce of certain Class 7 materials in alternative packaging. (mode 1).
21237-N | Mauser USA, LLC | 178.503(a)(3)(ii) | To authorize the use of certain 1H1 plastic drums with markings that do not include the “Y” letter identifying that the packagings have been successfully tested to meet the Packing Group II performance standard. (modes 1, 2, 3, 4, 5).
21238-N | Target Stores, Inc | 172.315(a)(2) | To authorize the transportation in commerce of limited quantities of hazardous materials that are marked with a limited quantity marking having dimensions of 25 mm by 25 mm. (modes 1, 2).
21240-N | Volkswagen Group of America Chattanooga Operations, LLC | 172.101(j), 173.185(b)(1) | To authorize the transportation in commerce of lithium ion batteries exceeding 35 kg by cargo-only aircraft in alternative packaging. (mode 4).
21241-N | ZF Airbag Germany Gmbh | 173.301(h), 173.302a(a) | To authorize the manufacture, mark, sale and use of non-DOT specification pressure vessels for use as components of safety systems and explosive articles. (modes 1, 2, 3, 4, 5).
21242-N | Myers Container, LLC | 178.503(a)(10) | To authorize the use of specification steel drums exceeding 100 L where the specification marking on the bottom of the drum indicates a different year of manufacture than the top/side. (modes 1, 2, 3, 4, 5).
21244-N | Contrivance Incorporated | 172.203(a), 172.301(c), 180.211(c)(2)(i) | To authorize the repair of certain DOT 4L cylinders without requiring pressure testing. (modes 1, 2, 3, 4, 5).

[FR Doc. 2021-11878 Filed 6-4-21; 8:45 am]

BILLING CODE 4910-60-P